DEPARTMENT OF TRANSPORTATION

Federal Aviation Administration

Tenth RTCA SC-229 406 MHz ELT Plenary Joint With WG-98; Correction

AGENCY: Federal Aviation Administration (FAA).

ACTION: Notice; correction.

SUMMARY: The Federal Aviation Administration published a document in the Federal Register of January 9, 2017, concerning the Tenth RTCA SC-229 406 MHz ELT Plenary Joint with WG-98. The document contained the incorrect location.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

Correction

In Federal Register, of January 9, 2017, in FR doc Vol. 82, No. 5, on page 2435 in Column 3 Correct the caption ADDRESS to read:

ADDRESSES: The meeting will be held at: E.A.S.A., Konrad-Adenauer-Ufer 3, D-50668 Cologne, Germany.

Dated: January 10, 2017.
Mohannad Dawoud,
Management & Program Analyst, Partnership Contracts Branch, ANG-A17, NextGen, Procurement Services Division, Federal Aviation Administration.

[FR Doc. 2017-00699 Filed 1-12-17; 8:45 am]

BILLING CODE 7710-12-P